DEPARTMENT OF THE INTERIOR

Fish and Wildlife Service

[FW-HQ-WSFR-2014-N162; FVWF58520900000]

Proposed Information Collection; Coastal Impact Assistance Program

AGENCY: Fish and Wildlife Service, Interior.

ACTION: Notice; request for comments.

SUMMARY: We (U.S. Fish and Wildlife Service, FWS) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on September 30, 2014. We may not conduct or sponsor and a person is not required to respond to a collection of information unless it displays a currently valid OMB control number.

DATES: To ensure that we are able to consider your comments on this IC, we must receive them by September 23, 2014.

ADDRESSES: Send your comments on the IC to the Service Information Collection Clearance Officer, U.S. Fish and Wildlife Service Headquarters, 5275 Leesburg Pike, Falls Church, VA 22041-3803 (mail); or hope_grey@fws.gov (email). Please include “1018-0147” in the subject line of your comments.

FOR FURTHER INFORMATION CONTACT: To request additional information about this IC, contact Hope Grey at hope_grey@fws.gov (email) or 703-358-2482 (telephone).

SUPPLEMENTARY INFORMATION:

I. Abstract

Section 384 of the Energy Policy Act of 2005 (Pub. L. 109-58) established the Coastal Impact Assistance Program (CIAP). This program provides Federal grant funds derived from Federal offshore lease revenues to oil-producing States for:

• Conservation, protection, or restoration of coastal areas, including wetlands;

• Mitigation of damage to fish, wildlife, or natural resources;

• Planning assistance and the administrative costs of complying with these objectives;

• Implementation of a federally approved marine, coastal, or comprehensive conservation management plan; and

• Mitigation of the impact of Outer Continental Shelf activities through funding of onshore infrastructure projects and public service needs.

The States of Alabama, Alaska, California, Louisiana, Mississippi, and Texas are eligible for CIAP funding. Also eligible to receive CIAP funds are 67 coastal political subdivisions (CPS) in the 6 States. The affected States have prepared Statewide CIAP plans that include proposed projects. The federally approved CIAP plans have also been coordinated through a public review process.

Once a project is approved, we must monitor the project to determine that the CIAP funds are being used for appropriate expenses. The monitoring will be achieved through the grant regulations that require grantees to provide, at a minimum, an annual progress report and a financial status report.

II. Data

OMB Control Number: 1018-0147.

Title: Coastal Impact Assistance Program.

Service Form Number: None.

Type of Request: Revision of a currently approved collection.

Number of Respondents: 73.

Description of Respondents: 6 States (Alabama, Alaska, California, Louisiana, Mississippi, and Texas) and 67 coastal political subdivisions in these States.

Respondent's Obligation: Required to obtain or retain a benefit.

Frequency of Collection: On occasion for amendments/changes to a project and other requests; annually for reports; and ongoing for recordkeeping.

Activity | Number of responses | Completion time per response (hours) | Total annual burden hours
Submit annual reports | 479 | 8 | 3,832
Notify FWS in case of delays, adverse conditions, etc., that impair ability to meet objectives of an award | 60 | 8 | 480
Request termination and supporting information | 45 | 6 | 270
Maintain records | 756 | 0.5 | 378
Telephone followup discussion on financial capabilities | 100 | 8 | 800
Develop language and individual signage at CIAP Sites | 100 | 8 | 800
Submission of photographs/CDs of projects for tracking purpose | 250 | 4 | 1,000
Request changes and/or amendments to a project | 192 | 42 | 8,064
Totals | 1,982 |  | 15,624

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: July 22, 2014.
Tina A. Campbell,
Chief, Division of Policy and Directives Management, U.S. Fish and Wildlife Service.

[FR Doc. 2014-17628 Filed 7-24-14; 8:45 am]

BILLING CODE 4310-55-P